DEPARTMENT OF STATE

[Public Notice 11066]

30-Day Notice of Proposed Information Collection: State Assistance Management System Domestic Results Performance Monitoring Module for the Bureau of Educational and Cultural Affairs (ECA)

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to April 9, 2020.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, may be sent to Natalie Donahue, Chief of Evaluation, Bureau of Educational and Cultural Affairs, who may be reached at (202) 632-6193 or DonahueNR@state.gov.

SUPPLEMENTARY INFORMATION:

• Title of Information Collection: SAMS-Domestic Results Performance Module (SAMS-D RPM).

• OMB Control Number: None.

• Type of Request: New collection.

• Originating Office: Educational and Cultural Affairs (ECA/P/V).

• Form Number: No form.

• Respondents: Implementing partners of ECA grants and cooperative agreements.

• Estimated Number of Respondents: 100.

• Estimated Number of Responses: 250 per year (most respondents report on a semi-annual basis; though there are some that will report more frequently, which has been factored into this figure).

• Average Time per response: 20 hours (regardless of frequency of reporting).

• Total Estimated Burden Time: 5,000 hours per year.

• Obligation to Respond: Voluntary. The State Assistance Management System Domestic (SAMS-D) database is the official system of record for grants reporting, this notice of proposed information collection pertains only to the SAMS-D RPM, which is an extension module within the larger SAMS-D database. The use of that module is voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

As a normal course of business and in compliance with OMB Guidelines contained in Circular A-110, recipient organizations are required to provide, and the U.S. State Department required to collect, periodic program and financial performance reports. The responsibility of the State Department to track and monitor the programmatic and financial performance necessitates a database that can help facilitate this in a consistent and standardized manner. The larger SAMS-D database is already the Department of State's system of record; the database enables monitoring of grants and cooperative agreements through standardized collection and storage of performance monitoring award elements, such as progress reports, workplans, grant agreements, and other business information related to ECA awards. The SAMS-D RPM (which this notice of information collection pertains to, specifically) is an extension module within the larger SAMS-D platform, designed to collect performance monitoring data in a format that will make analysis of program performance and monitoring of the award more efficient.

Methodology

Information will be entered into SAMS-D RPM electronically. For organizations that are unable to submit their reports online, they will be able to submit a word document or PDF as the report, which will then be uploaded to the SAMS-D RPM. ECA will seek to limit such situations.

Kristin Roberts,
Acting Deputy Assistant Secretary, Bureau of Educational and Cultural Affairs.

[FR Doc. 2020-04843 Filed 3-9-20; 8:45 am]

BILLING CODE 4710-05-P